FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (http://www.fmc.gov) or by contacting the Office of Agreements at (202)-523-5793 or tradeanalysis@fmc.gov.

Agreement No.: 011689-011.

Title: Zim/CSCL Space Charter Agreement.

Parties: Zim Integrated Shipping Services, Ltd.; China Shipping Container Line Co., Ltd.; and China Shipping Container Lines (Hong Kong) Co., Ltd.

Filing Party: Wayne R. Rohde, Esq.; Sher & Blackwell LLP; 1850 M Street, NW.; Suite 900; Washington, DC 20036.

Synopsis: The amendment reduces the allocation of space between the parties on certain services and eliminates allocations on others.

Agreement No.: 012072.

Title: NYK/Hanjin/Yang Ming Americas North-South Service Slot Charter Agreement.

Parties: Hanjin Shipping Co., Ltd.; Nippon Yusen Kaisha; and Yan Ming (America) Corp.

Filing Party: Doug Johnson, Director; Atlantic Trades TA and ANS; NYK Line; 300 Lighting Way 5th Floor; Secaucus, NJ 07094.

Synopsis: The agreement authorizes NYK to charter slots to Hanjin and Yang Ming on its Americas North South Service in the trade between the U.S. East Coast and the East Coast of Brazil.

Agreement No.: 201103-008.

Title: Memorandum Agreement of the Pacific Maritime Association of December 14, 1983 Concerning Assessments to Pay ILWU-PMA Employee Benefit Costs, As Amended, Through June 29, 2009.

Parties: Pacific Maritime Association and International Longshore and Warehouse Union.

Filing Party: David F. Smith, Esq.; Sher & Blackwell LLP; 1850 M Street, NW.; Suite 1850; Washington, DC 20036.

Synopsis: The amendment revises how the man-hour base assessment will be calculated.

Agreement No.: 201203.

Title: Port of Oakland/Oakland Marine Terminal Operator Agreement.

Parties: Eagle Marine Services, Ltd.; Port of Oakland; Seaside Transportation Service LLC; SSA Terminals (Oakland), LLC; Total Terminals International, LLC; Transbay Container Terminal, Inc.; and Trapac, Inc.

Filing Party: David F. Smith, Esq.; Sher & Blackwell LLP; 1850 M Street, NW.; Suite 900; Washington, DC 20036, and Paul Heylman, Esq.; Saul Ewing LLP; 2600 Virginia Avenue, NW.; Suite 1000; Washington, DC 20037.

Synopsis: The agreement would authorize the parties to discuss, exchange information, and reach agreement regarding various matters pertaining to their operations at the Port of Oakland, including various aspects of the administration and operation of truck identification, the port's clean truck program, and compliance with requirements of the California Air Resources Board.

Dated: July 2, 2009.
By Order of the Federal Maritime Commission.
Karen V. Gregory,
Secretary.

[FR Doc. E9-16106 Filed 7-7-09; 8:45 am]

BILLING CODE P